DEPARTMENT OF COMMERCE

International Trade Administration

[A-552-802]

Certain Frozen Warmwater Shrimp From the Socialist Republic of Vietnam: Partial Rescission of Antidumping Duty Administrative Reviews (2014-2015; 2015-2016) and Compromise of Outstanding Claims

AGENCY: Enforcement and Compliance, International Trade Administration, Department of Commerce.

SUMMARY: The Department of Commerce (“Department”) is rescinding, in part, the antidumping duty administrative reviews for the antidumping duty order (“the Order”) on certain frozen warmwater shrimp from the Socialist Republic of Vietnam (“Vietnam”) for the periods February 1, 2014, through January 31, 2015, and February 1, 2015, through January 31, 2016 with respect to sales made by the Minh Phu Group. Further, the Department is compromising its claims for certain antidumping duties for entries of subject merchandise exported by the Minh Phu Group for the period February 1, 2014, through July 17, 2016.

DATES: Effective July 18, 2016.

FOR FURTHER INFORMATION CONTACT: Irene Gorelik, AD/CVD Operations, Enforcement and Compliance, International Trade Administration, U.S. Department of Commerce, 14th Street and Constitution Avenue NW., Washington, DC 20230; telephone: (202) 482-6905.

SUPPLEMENTARY INFORMATION:

Rescission of Reviews

Tenth Administrative Review (2014-2015)

On February 27, 2015, Vietnamese Association of Shrimp Exporters and Producers (“VASEP”), Ad Hoc Shrimp Trade Action Committee (“AHSTAC”), and American Shrimp Processors Association (“ASPA”) each requested a review of the Order for the period February 1, 2014, through January 31, 2015, with respect to sales made by the Minh Phu Group.¹

¹ These requests for review included: Minh Phu Seafood Corporation (and its affiliates Minh Qui Seafood Co. Ltd., Minh Phat Seafood Co. Ltd., Minh Phu Hau Giang, collectively “Minh Phu Group”), as requested by VASEP; Minh Phat Seafood Co., Ltd., Minh Phu Hau Giang Seafood Corp., and Minh Phu Seafood Corp., as requested by AHSTAC; and Minh Phat Seafood, Minh Phat Seafood Co., Ltd., Minh Phu Seafood Corp., Minh Phu Seafood Pte, Minh Qui Seafood, and Minh Qui Seafood Co., Ltd., as requested by ASPA.

On April 3, 2015, the Department published in the Federal Register a notice of initiation of the tenth administrative review of the Order, covering the period February 1, 2014, through January 31, 2015.² On July 6, 2016, VASEP, AHSTAC, and ASPA withdrew their requests for review with respect to the Minh Phu Group and requested that the Department exercise its authority to extend the 90-day deadline to withdraw the requests for review and rescind the administrative review, in part, under extraordinary circumstances. In particular, the parties explained their understanding that extraordinary circumstances exist because the withdrawals of review requests for the Minh Phu Group will assist the government of the United States and government of Vietnam in reaching a mutually satisfactory resolution with respect to United States—Anti-dumping Measures of Certain Shrimp from Viet Nam (DS429) and United States Anti-dumping Measures of Certain Shrimp from Viet Nam (DS404). The parties further explained their understanding that a mutually satisfactory resolution of these disputes was not effectuated within the 90-day deadline, and, but for this mutually satisfactory resolution, the parties would not be withdrawing their request for review of the Minh Phu Group.

² See Initiation of Antidumping and Countervailing Duty Administrative Reviews, 80 FR 18202 (April 3, 2015) (“AR10 Initiation Notice”). This initiation notice included, in relevant part: Minh Phat Seafood, Minh Phat Seafood Co., Ltd., Minh Phu Seafood Corp., Minh Phu Seafood Pte, Minh Phu Seafood Corporation (and its affiliates Minh Qui Seafood Co. Ltd., Minh Phat Seafood Co. Ltd., Minh Phu Hau Giang, collectively “Minh Phu Group”), Minh Phu Hau Giang Seafood Corp., Minh Qui Seafood, and Minh Qui Seafood Co., Ltd.

Section 351.213(d)(1) of the Department's regulations states that the Department will rescind an administrative review if a party requesting the review withdraws the request within 90 days of the publication of the notice of initiation. Further, 19 CFR 351.213(d)(1) allows the Department to extend the 90-day deadline if it considers it reasonable to do so. In the AR10 Initiation Notice, the Department stated that a party requesting an extension of the deadline must demonstrate that an “extraordinary circumstance” prevented it from submitting a timely withdrawal request, and that a determination to extend the deadline would be made on a case-by-case basis.³ Although the parties' withdrawals of review request for the tenth administrative review are past the 90-day deadline, the Department determines that the parties have demonstrated that extraordinary circumstances exist for this segment of the proceeding, and thus, find it reasonable to extend the deadline pursuant to 19 CFR 351.213(d)(1). Therefore, because all parties that requested a review of the Minh Phu Group have withdrawn their requests, the Department is rescinding the review with respect to the Minh Phu Group for the period February 1, 2014, through January 31, 2015.

³ Id., 80 FR at 18202.

Eleventh Administrative Review (2015-2016)

On February 29, 2016, VASEP, AHSTAC, and ASPA each requested a review of the Order for the period February 1, 2015, through January 31, 2016, with respect to sales made by the Minh Phu Group.⁴

⁴ These requests for review included, in relevant part: Minh Phu Seafood Corporation (and its affiliates Minh Qui Seafood Co., Ltd., Minh Phu Hau Giang Seafood Corp and Minh Phat Seafood Co., Ltd.) (collectively “Minh Phu Group”), as requested by VASEP; Minh Phat Seafood Co., Ltd., Minh Phu Hau Giang Seafood Corp., Minh Phu Seafood Corp., and Minh Qui Seafood Co., Ltd., as requested by AHSTAC; and Minh Phat Seafood, Minh Phat Seafood Co., Ltd., Minh Phu Seafood Corp., Minh Phu Seafood Corporation (and its affiliates Minh Qui Seafood Co., Ltd., Minh Phat Seafood Co. Ltd., Minh Phu Hau Giang, collectively “Minh Phu Group”), Minh Phu Hau Giang Seafood Corp., Minh Phu Seafood Pte, Minh Qui Seafood, and Minh Qui Seafood Co., Ltd., as requested by ASPA.

On April 7, 2016, the Department published in the Federal Register a notice of initiation of the eleventh administrative review of the Order, covering the period February 1, 2015, through January 31, 2016.⁵ On July 6, 2016, VASEP, AHSTAC, and ASPA timely withdrew their requests for review with respect to the Minh Phu Group and requested that the Department rescind the administrative review, in part.

⁵ See Initiation of Antidumping and Countervailing Duty Administrative Reviews, 81 FR 20324 (April 7, 2016) (“AR11 Initiation Notice”). This initiation notice included, in relevant part: Minh Phat Seafood, Minh Phat Seafood Co., Ltd., Minh Phu Seafood Corp., Minh Phu Seafood Pte, Minh Phu Seafood Corporation, Minh Phu Hau Giang Seafood Corp., Minh Qui Seafood, Minh Qui Seafood Co., Ltd., Minh Phu Seafood Corporation (and its affiliates Minh Qui Seafood Co., Ltd., Minh Phu Hau Giang Seafood Corp and Minh Phat Seafood Co., Ltd.) (collectively “Minh Phu Group”).

Because all parties that requested a review of the Minh Phu Group have timely withdrawn their requests, the Department is rescinding the administrative review with respect to the Minh Phu Group for the period February 1, 2015, through January 31, 2016, pursuant to 19 CFR 351.213(d)(1).

Compromise of Outstanding Claims

On July 18, 2016, the United States and Vietnam entered into an Agreement on the Antidumping Duty Order on Certain Frozen Warmwater Shrimp from Vietnam (“Agreement”) to reach a mutually satisfactory resolution of the WTO disputes, United States—Anti-dumping Measures on Certain Shrimp from Viet Nam (DS429) and United States—Anti-dumping Measures on Certain Shrimp from Viet Nam (DS404), and to provide for the settlement of certain litigation, and the compromise of certain claims arising under the Order. In conjunction with the Agreement, on July 18, 2016, the Department issued its determination pursuant to section 129 of the Uruguay Round Agreements Act (“URAA”) which has culminated in the revocation of the Order, in part, with respect to the Minh Phu Group.6 7 In a July 18, 2016, letter, the United States Trade Representative (“USTR”) notified the Department that, consistent with section 129(b)(3) of the URAA, consultations with the Department and the appropriate congressional committees with respect to the 129 Final Determination have been completed, and directed the Department, in accordance with section 129(b)(4) of the URAA, to implement this determination.⁸

⁶ See Memorandum from Christian Marsh, Deputy Assistant Secretary for Antidumping and Countervailing Duty Operations to Paul Piquado, Assistant Secretary for Enforcement and Compliance, re: “Final Determination of the Proceeding under Section 129 of the Uruguay Round Agreements Act: Antidumping Measures on Certain Frozen Warmwater Shrimp from the Socialist Republic of Vietnam,” dated July 18, 2016 (“129 Final Determination”).

⁷ In the 129 Final Determination, the Department indicated its intent to revoke the following Minh Phu Group individual company names from the Order: Minh Phu Seafood Export Import Corporation (and affiliates Minh Qui Seafood Co., Ltd. and Minh Phat Seafood Co., Ltd.), Minh Phu Seafood Corp., Minh Phu Seafood Corporation, Minh Phu Seafood Pte, Minh Qui Seafood, Minh Qui Seafood Co., Ltd., Minh Qui, Minh Phat Seafood Co., Ltd., Minh Phat, Minh Phu Hau Giang Seafood Joint Stock Company, Minh Phu Hau Giang Seafood Co., Ltd., Minh Phat Seafood, Minh Phat Seafood Corp., Minh Phu Hau Giang Seafood Corp., and Minh Phu Hau Giang Seafood Processing Co., Ltd.

⁸ See Letter from USTR, re: “Request to Implement Final Determination,” dated July 18, 2016.

Effective July 18, 2016, the Agreement compromises the United States' claims for certain outstanding duties on shipments of subject merchandise from the Minh Phu Group that entered, or were withdrawn from warehouse, for consumption during the period February 1, 2014, through July 17, 2016, pursuant to section 617 the Tariff Act of 1930, as amended (“the Act”).⁹ In accordance with the terms of the Agreement, the Department will instruct United States Customs and Border Protection (“CBP”) to liquidate entries of certain frozen warmwater shrimp exported by the Minh Phu Group ¹⁰ and imported by Mseafood Corporation which entered, or were withdrawn from warehouse, for consumption during the period February 1, 2014, through July 17, 2016, without regard to antidumping duties, with the exception of such entries which entered the United States during the period February 1, 2016, through May 3, 2016, which will be liquidated at the cash deposit rate in effect at the time of entry. Further, the Department will instruct CBP to liquidate all other entries of certain frozen warmwater shrimp exported by the Minh Phu Group which entered, or were withdrawn from warehouse, for consumption during the period February 1, 2014, through July 17, 2016, at the cash deposit rate in effect at the time of entry.

⁹ See also Appendix 6 to the Agreement, entitled “Agreement between DOC, Minh Phu Group, MSeafood Corporation, AHSTAC, and ASPA.”

¹⁰ The following names will be listed in the CBP instructions: (1) Minh Phu Seafood Export Import Corporation (and affiliates Minh Qui Seafood Co., Ltd. and Minh Phat Seafood Co., Ltd.), aka (2) Minh Phu Seafood Corp., aka (3) Minh Phu Seafood Corporation, aka (4) Minh Phu Seafood Pte, or (5) Minh Qui Seafood, aka (6) Minh Qui Seafood Co., Ltd., aka (7) Minh Qui, or (8) Minh Phat Seafood Co., Ltd., aka (9) Minh Phat, aka (10) Minh Phat Seafood, aka (11) Minh Phat Seafood Corp., or (12) Minh Phu Hau Giang Seafood Joint Stock Company, aka (13) Minh Phu Hau Giang Seafood Co., Ltd., aka (14) Minh Phu Hau Giang Seafood Corp., aka (15) Minh Phu Hau Giang Seafood Processing Co., Ltd.

Because there is no further basis for conducting an administrative review of the Order with respect to the Minh Phu Group for the period February 1, 2016, through January 31, 2017, the Department does not intend to initiate an administrative review with respect to the Minh Phu Group for this period.

This notice is issued and published in accordance with 19 CFR 351.213(d)(1) and (4).

Dated: July 18, 2016.
Paul Piquado,
Assistant Secretary for Enforcement and Compliance.

[FR Doc. 2016-17384 Filed 7-21-16; 8:45 am]

BILLING CODE 3510-DS-P